ENVIRONMENTAL PROTECTION AGENCY

[FRL OP-OFA-006]

Environmental Impact Statements; Notice of Availability

Responsible Agency: Office of Federal Activities, General Information 202-564-5632 or https://www.epa.gov/nepa.

Weekly receipt of Environmental Impact Statements (EIS)

Filed February 18, 2022 10 a.m. EST Through February 28, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220021, Draft, USFS, AK, Mendenhall Glacier Visitor Facility Improvements, Comment Period Ends: 04/18/2022, Contact: Monique Nelson 907-209-4090.

EIS No. 20220022, Draft, USFS, OR, Ellis Integrated Vegetation Project, Comment Period Ends: 04/18/2022, Contact: Leslie Taylor 541-427-5324.

EIS No. 20220023, Final, USAF, TX, T-7A Recapitalization at Joint Base San Antonio, Texas, Review Period Ends: 04/04/2022, Contact: Nolan Swick 210-925-3392.

EIS No. 20220024, Draft, BIA, NV, Chuckwalla Solar Projects, Comment Period Ends: 04/18/2022, Contact: Chip Lewis 602-379-6750.

EIS No. 20220025, Draft, FERC, OR, Lower Klamath Project, Comment Period Ends: 04/18/2022, Contact: Office of External Affairs 866-208-3372.

EIS No. 20220026, Final, FERC, UT, Delta Lateral Project, Review Period Ends: 04/04/2022, Contact: Office of External Affairs 866-208-3372.

EIS No. 20220027, Draft, RUS, WI, Badger State Solar Project, Comment Period Ends: 04/18/2022, Contact: Peter Steinour 202-961-6140.

EIS No. 20220028, Final Supplement, FHWA, NH, Newington-Dover, General Sullivan Bridge Spaulding Turnpike Improvements Project, Contact: Jamison Sikora 603-410-4870.

Under 23 U.S.C. 139(n)(2), FHWA has issued a single document that consists of a final supplemental environmental impact statement and supplemental record of decision. Therefore, the 30-day wait/review period under NEPA does not apply to this action.

Dated: February 28, 2022.
Cindy S. Barger,
Director, NEPA Compliance Division, Office of Federal Activities.

[FR Doc. 2022-04605 Filed 3-3-22; 8:45 am]

BILLING CODE 6560-50-P